DEPARTMENT OF THE TREASURY

Agency Information Collection Activities; Proposed Collection; Comment Request; CARES Act Loan and Payroll Support Program

AGENCY: Departmental Offices, U.S. Department of the Treasury.

ACTION: Notice.

SUMMARY: The Department of the Treasury, as part of its continuing effort to reduce paperwork and respondent burden, invites the general public and other Federal agencies to comment on the proposed information collections listed below, in accordance with the Paperwork Reduction Act of 1995 (PRA).

DATES: Written comments must be received on or before September 14, 2020.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Molly Stasko by emailing PRA@treasury.gov, calling (202) 622-8922, or viewing the entire information collection request at www.reginfo.gov.

SUPPLEMENTARY INFORMATION: Title: CARES Act Loan and Payroll Support Programs.

OMB Control Number: 1505-0263.

Type of Review: Extension of a currently approved collection.

Description: On March 27, 2020, the President signed the “Coronavirus Aid, Relief, and Economic Security Act” or the “CARES Act,” (Pub. L. 116-136) which provides emergency assistance and health care response for individuals, families and businesses affected by the COVID-19 pandemic, and provides emergency appropriations to support executive branch agency operations during the COVID-19 pandemic. The Act authorizes the Secretary of the Treasury to make loans, loan guarantees, and other investments that do not exceed $500 billion in the aggregate to provide liquidity to eligible businesses, States, and municipalities related to losses incurred as a result of coronavirus. Section 4003(b)(1)-(3) authorizes the Secretary to make loans and loan guarantees available to passenger air carriers and cargo air carriers, as well as certain related businesses, and businesses critical to maintaining national security. As part of the loan and payroll support agreements, applicants will need to maintain records for a period of 2, 5, or 10 years, depending on the loan type, as well as submit compliance reports quarterly to ensure funding is used in accordance with the agreements and aid statutory reporting requirements.

Forms: Payroll Support Application Form, Payroll Support Program Agreement, Supplemental Information for Contractor Applicants, Treasury Loan Application Form for Air Carriers and Certain Eligible Businesses, Treasury Loan Application Form for Businesses Critical to Maintaining National Security, Quarterly and Annual Compliance and Reporting Collection.

Affected Public: Businesses or other for-profits.

Estimated Number of Respondents: 1,000 for applications, 1,100 for reporting.

Frequency of Response: Once for applications, Quarterly for reporting.

Estimated Total Number of Annual Responses: 1,000 for applications, 4,400 for reporting.

Estimated Time per Response: 2 hours for applications, 4 hours for reporting.

Estimated Total Annual Burden Hours: 2,000 for applications, 17,600 for reporting.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: July 10, 2020.
Lenora Stiles,
Interim Deputy Chief Operating Officer of CARES Operations, Office of Management.

[FR Doc. 2020-15331 Filed 7-15-20; 8:45 am]

BILLING CODE 4810-25-P